ENVIRONMENTAL PROTECTION AGENCY

[FRL-9526-4]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1973.05; Cooling Water Intake Structures—New Facility (Renewal); 40 CFR 122.21(r); 40 CFR 125.86-125.89; was approved on 12/07/2012; OMB Number 2040-0241; expires on 12/31/2015; Approved without change.

EPA ICR Number 1791.06; Establishing No-Discharge Zones Under Clean Water Act Section 312 (Renewal); 40 CFR parts 140 and 1700; was approved on 12/07/2012; OMB Number 2040-0187; expires on 12/31/2015; Approved without change.

EPA ICR Number 1816.05; EPA Strategic Plan Information on Source Water Protection (Renewal); was approved on 12/07/2012; OMB Number 2040-0197; expires on 12/31/2015; Approved without change.

EPA ICR Number 0002.15; National Pretreatment Program (Renewal); 40 CFR part 105; 40 CFR 122.41, 122.42, 123.24, 123.62, 403.1-403.20; 40 CFR 430.02, 40 CFR part 437; 40 CFR 442.15, 442.16, 442.25, 442.26, 455.41; was approved on 12/07/2012; OMB Number 2040-0009; expires on 12/31/2015; Approved without change.

EPA ICR Number 2048.04; BEACH Act Grant Program (Renewal); was approved on 12/07/2012; OMB Number 2040-0244; expires on 12/31/2015; Approved without change.

EPA ICR Number 0988.11; Water Quality Standards Regulation (Renewal); 40 CFR 131.6-131.8, 131.20-131.22, 131.31-131.36; and 40 CFR part 132; was approved on 12/07/2012; OMB Number 2040-0049; expires on 12/31/2015; Approved without change.

EPA ICR Number 1896.09; Disinfectants/Disinfection Byproducts, Chemical and Radionuclides (Renewal); 40 CFR 141.14, 141.23(a)-(d), 141.24, 141.26; 141.31(a)-(c) and (e), 141.33(a)-(d), 141.42, 141.43, 141.75, 141.80-141.91, 141.111, 141.130-141.132, 141.134, 141.135, 141.601, 141.626; 40 CFR 142.14, 142.15, 142.16; was approved on 12/07/2012; OMB Number 2040-0204; expires on 12/31/2015; Approved without change.

EPA ICR Number 1363.22; Toxic Chemical Release Reporting; 40 CFR part 372; was approved on 12/10/2012; OMB Number 2025-0009; expires on 10/31/2014; Approved without change.

EPA ICR Number 1428.09; Trade Secret Claims for Emergency Planning and Community Right-to-Know Act (Renewal); 40 CFR part 350; was approved on 12/11/2012; OMB Number 2050-0078; expires on 12/31/2015; Approved without change.

EPA ICR Number 2332.03; NESHAP for Aluminum, Copper, and Other Non-Ferrous Foundries; 40 CFR part 63 subparts A and ZZZZZZ; was approved on 12/11/2012; OMB Number 2060-0630; expires on 12/31/2015; Approved without change.

EPA ICR Number 1285.08; Nonconformance Penalties for Heavy-Duty Engines and Heavy-Duty Vehicles, including Light-Duty Trucks; 40 CFR part 86 subpart L; was approved on 12/13/2012; OMB Number 2060-0132; expires on 12/31/2015; Approved with change.

EPA ICR Number 1803.06; Drinking Water State Revolving Fund Program (Renewal); 40 CFR 35.3545, 35.3550 and 35.3570; was approved on 12/17/2012; OMB Number 2040-0185; expires on 12/31/2015; Approved with change.

EPA ICR Number 0574.15; Pre-Manufacture Review Reporting and Exemption Requirements for New Chemical Substances and Significant New Use Reporting Requirements for Chemical Substances; 40 CFR parts 700, 720, 721, 723, 725; was approved on 12/21/2012; OMB Number 2070-0012; expires on 12/31/2015; Approved without change.

EPA ICR Number 1715.13; TSCA Section 402 and Section 404 Training and Certification, Accreditation and Standards for Lead-Based Paint Activities and Renovation, Repair, and Painting (Renewal); 40 CFR part 745; was approved on 12/21/2012; OMB Number 2070-0155; expires on 12/31/2015; Approved with change.

EPA ICR Number 1395.08; Emergency Planning and Release Notification Requirements under Emergency Planning and Community Right-to-Know Act Sections 302, 303, and 304 (Renewal); 40 CFR part 355; was approved on 12/27/2012; OMB Number 2050-0092; expires on 12/31/2015; Approved without change.

EPA ICR Number 1656.14; Risk Management Program Requirements and Petitions to Modify the List of Regulated Substances under Section 112(r) of the Clean Air Act (Renewal); 40 CFR part 68; was approved on 12/27/2012; OMB Number 2050-0144; expires on 12/31/2015; Approved without change.

EPA ICR Number 1426.10; EPA Worker Protection Standards for Hazardous Waste Operations and Emergency Response (Renewal); 40 CFR part 311; was approved on 12/27/2012; OMB Number 2050-0105; expires on 12/31/2015; Approved without change.

EPA ICR Number 2032.07; NESHAP for Hydrochloric Acid Production; 40 CFR part 63 subparts A and NNNNN; was approved on 12/27/2012; OMB Number 2060-0529; expires on 12/31/2015; Approved without change.

EPA ICR Number 0229.20; National Pollutant Discharge Elimination System (NPDES) Program (Renewal); 40 CFR 122.21, 122.26, 122.41, 122.42, 122.44, 122.45, 122.47, 122.48, 122.62, 122.63, 123.21-123.29, 123.35, 123.43-123.45, 123.62-123.64, 124.5, 124.53, 124.54, 131.1, 131.5 and 131.21; 40 CFR part 132; 40 CFR 403.17 and 403.18; 40 CFR parts 423, 430, 434, 435, 439 and 501; 40 CFR 465.03, 466.03 and 467.03; was approved on 12/27/2012; OMB Number 2040-0004; expires on 12/31/2015; Approved without change.

EPA ICR Number 2034.05; NESHAP for the Wood Products Surface Coating Industry; 40 CFR part 63 subparts A and QQQQ; was approved on 12/27/2012; OMB Number 2060-0510; expires on 12/31/2015; Approved without change.

EPA ICR Number 0113.11; NESHAP for Mercury; 40 CFR part 61 subparts A and E; was approved on 12/27/2012; OMB Number 2060-0097; expires on 12/31/2015; Approved without change.

EPA ICR Number 0663.11; NSPS for Beverage Can Surface Coating; 40 CFR part 60 subparts A and WW; was approved on 12/28/2012; OMB Number 2060-0001; expires on 12/31/2015; Approved without change.

EPA ICR Number 1156.12; NSPS for Synthetic Fiber Production Facilities; 40 CFR part 60 subparts A and HHH; was approved on 12/28/2012; OMB Number 2060-0059; expires on 12/31/2015; Approved without change.

EPA ICR Number 0659.12; NSPS for Surface Coating of Large Appliances; 40 CFR part 60 subparts A and SS; was approved on 12/28/2012; OMB Number 2060-0108; expires on 12/31/2015; Approved without change.

EPA ICR Number 1894.07; NESHAP for Secondary Aluminum Production; 40 CFR part 63 subparts A and RRR; was approved on 12/28/2012; OMB Number 2060-0433; expires on 12/31/2015; Approved without change.

EPA ICR Number 2452.02; NESHAP for Pulp and Paper Production; 40 CFR part 63 subparts A and S; was approved on 12/28/2012; OMB Number 2060-0681; expires on 12/31/2015; Approved without change.

EPA ICR Number 1611.10; NESHAP for Chromium Emissions from Hard and Decorative Chromium Electroplating and Chromium Anodizing Tanks; 40 CFR part 63 subparts A and N; was approved on 12/28/2012; OMB Number 2060-0327; expires on 12/31/2015; Approved without change.

EPA ICR Number 0649.11; NSPS for Metal Furniture Coating; 40 CFR part 60 subparts A and EE; was approved on 12/28/2012; OMB Number 2060-0106; expires on 12/31/2015; Approved without change.

EPA ICR Number 1952.05; NESHAP for Metal Furniture Surface Coating; 40 CFR part 63 subparts A and RRRR; was approved on 12/28/2012; OMB Number 2060-0518; expires on 12/31/2015; Approved without change.

John Moses,
Director, Collections Strategies Division.

[FR Doc. 2013-00865 Filed 1-16-13; 8:45 am]

BILLING CODE 6560-50-P